U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

Name: Dennis Shea, Chairman of the U.S.-China Economic and Security Review Commission. The Commission is mandated by Congress to investigate, assess, and report to Congress annually on “the national security implications of the economic relationship between the United States and the People's Republic of China.” Pursuant to this mandate, the Commission will hold a public hearing in Washington, DC on Thursday, June 9, 2016, on “Chinese Intelligence Services and Espionage Operations.”

Background: This is the Sixth public hearing the Commission will hold during its 2016 report cycle. This hearing will examine the structure, capabilities, and recent reforms of Chinese intelligence services. It will describe how China conducts espionage and other forms of intelligence collection. It will assess the implications for U.S. national security of Chinese espionage operations in the United States and abroad that target U.S. national security organizations and actors, including U.S. defense industrial chains, military forces, and leading national security decision makers. Panelists will discuss recommendations for congressional action to address the threat of Chinese intelligence collection against the United States. The hearing will be co-chaired by Peter Brookes and Sen. Byron L. Dorgan. Any interested party may file a written statement by June 9, 2016, by mailing to the contact below. A portion of each panel will include a question and answer period between the Commissioners and the witnesses.

Location, Date And Time: Room: TBD. Thursday, June 9, 2016, start time is 9:00 a.m. A detailed agenda for the hearing will be posted to the Commission's Web site at www.uscc.gov. Also, please check our Web site for possible changes to the hearing schedule. Reservations are not required to attend the hearing.

FOR FURTHER INFORMATION CONTACT: Any member of the public seeking further information concerning the hearing should contact Anthony DeMarino, 444 North Capitol Street NW., Suite 602, Washington DC 20001; phone: 202-624-1496, or via email at ademarino@uscc.gov. Reservations are not required to attend the hearing.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: May 25, 2016.
Michael Danis,
Executive Director, U.S.-China Economic and Security Review Commission.

[FR Doc. 2016-12795 Filed 5-31-16; 8:45 am]

BILLING CODE 1137-00-P